DEPARTMENT OF COMMERCE

National Oceanic and Atmospheric Administration

RIN 0648-XA524

Marine Mammals; File No. 15488

AGENCY: National Marine Fisheries Service (NMFS), National Oceanic and Atmospheric Administration (NOAA), Commerce.

ACTION: Notice; issuance of permit.

SUMMARY: Notice is hereby given that a permit has been issued to the Georgia Department of Natural Resources, Wildlife Resources Division [Responsible Party: Dan Forster], to conduct research on North Atlantic right whales (Eubalaena glacialis).

ADDRESSES: The permit and related documents are available for review upon written request or by appointment in the following offices:

Permits, Conservation and Education Division, Office of Protected Resources, NMFS, 1315 East-West Highway, Room 13705, Silver Spring, MD 20910; phone (301) 427-8401; fax (301) 713-0376; and Southeast Region, NMFS, 263 13th Avenue South, Saint Petersburg, Florida 33701; phone (727) 824-5312; fax (727) 824-5309.

FOR FURTHER INFORMATION CONTACT: Kristy Beard or Carrie Hubard, (301) 427-8401.

SUPPLEMENTARY INFORMATION: On December 3, 2010, notice was published in the Federal Register (75 FR 75458) that a request for a permit to conduct research on North Atlantic right whales had been submitted by the applicant. The requested permit has been issued under the authority of the Marine Mammal Protection Act of 1972, as amended (16 U.S.C. 1361 et seq.), the regulations governing the taking and importing of marine mammals (50 CFR part 216), the Endangered Species Act of 1973, as amended (ESA; 16 U.S.C. 1531 et seq.), and the regulations governing the taking, importing, and exporting of endangered and threatened species (50 CFR parts 222-226).

The permit authorizes harassment of North Atlantic right whales off the coast of Georgia, Florida, and South Carolina. Annual activities include aerial surveys and close approach by vessel to collect right whale photo-identification and behavioral data from up to 350 whales. An additional 50 adult or juvenile whales and 20 whales older than one month would be approached by vessel to collect photo-identification and behavioral data and skin/blubber biopsy samples. The purpose of the research is to monitor North Atlantic right whale population status, demographics, habitat and anthropogenic impacts. Up to 350 bottlenose (Tursiops truncatus) and 200 Atlantic spotted dolphins (Stenella frontalis) would be harassed incidental to research. The permit is valid for five years.

An environmental assessment (EA) was prepared analyzing the effects of the permitted activities on the human environment in compliance with the National Environmental Policy Act of 1969 (42 U.S.C. 4321 et seq.). Based on the analyses in the EA, NMFS determined that issuance of the permit would not significantly impact the quality of the human environment and that preparation of an environmental impact statement was not required. That determination is documented in a Finding of No Significant Impact (FONSI), signed on June 23, 2011.

As required by the ESA, issuance of this permit was based on a finding that such permit: (1) Was applied for in good faith; (2) will not operate to the disadvantage of such endangered species; and (3) is consistent with the purposes and policies set forth in section 2 of the ESA.

Dated: June 24, 2011.
P. Michael Payne,
Chief, Permits, Conservation and Education Division, Office of Protected Resources, National Marine Fisheries Service.

[FR Doc. 2011-16519 Filed 6-29-11; 8:45 am]

BILLING CODE 3510-22-P